DEPARTMENT OF HOMELAND SECURITY

Federal Emergency Management Agency

[Docket ID FEMA-2017-0002; Internal Agency Docket No. FEMA-B-1763]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 13, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1763, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: November 29, 2017.
Roy E. Wright,
Deputy Associate Administrator for Insurance and Mitigation, Department of Homeland Security, Federal Emergency Management Agency.

Community | Community map repository address
Conway County, Arkansas and Incorporated Areas
Project: 16-06-1679S Preliminary Date: July 21, 2017
City of Morrilton | City Hall, 119 North Division Street, Morrilton, AR 72110.
City of Oppelo | City Hall, 8 Municipal Drive, Oppelo, AR 72110.
City of Plumerville | City Hall, 303 West Main Street, Plumerville, AR 72127.
Town of Menifee | Town Hall, 68 North Mustang Street, Menifee, AR 72107.
Unincorporated Areas of Conway County | Conway County Courthouse, 117 South Moose Street, Morrilton, AR 72110.
Faulkner County, Arkansas and Incorporated Areas
Project: 16-06-1679S Preliminary Date: July 21, 2017
City of Conway | Street and Engineering Department, 100 East Robins Street, Conway, AR 72032.
Unincorporated Areas of Faulkner County | Faulkner County Office of Emergency Management, 57 Acklin Gap Road, Conway, AR 72032.
Pope County, Arkansas and Incorporated Areas
Project: 16-06-1679S Preliminary Date: July 21, 2017
City of Atkins | Pope County Conservation District, 420 North Hampton Avenue, Suite B, Russellville, AR 72802.
Unincorporated Areas of Pope County | Pope County Conservation District, 420 North Hampton Avenue, Suite B, Russellville, AR 72802.
Cherokee County, Georgia and Incorporated Areas
Project: 13-04-8403S Preliminary Date: June 15, 2017
City of Canton | City Hall, 151 Elizabeth Street, Canton, GA 30114.
City of Holly Springs | City Hall, 3237 Holly Springs Parkway, Holly Springs, GA 30115.
City of Waleska | City Hall, 8891 Fincher Road, Waleska, GA 30183.
City of Woodstock | City Hall, 12453 Highway 92, Woodstock, GA 30188.
Unincorporated Areas of Cherokee County | Cherokee County Administrative Center, 1130 Bluffs Parkway, Canton, GA 30114.
Marion County, West Virginia and Incorporated Areas
Project: 14-03-2356S Preliminary Date: July 31, 2017
City of Fairmont | J. Harper Meredith Building, 200 Jackson Street, 3rd Floor—Planning, Fairmont, WV 26554.
Unincorporated Areas of Marion County | Marion County J. Harper Meredith Building, 200 Jackson Street, Room 403, Fairmont, WV 26554.
Monongalia County, West Virginia and Incorporated Areas
Project: 14-03-2356S Preliminary Date: July 24, 2017
City of Morgantown | City Hall, 389 Spruce Street, Morgantown, WV 26505.
City of Westover | City Hall, 500 Dupont Road, Westover, WV 26501.
Town of Granville | Town Hall, 1245 Main Street, Granville, WV 26534.
Town of Star City | Municipal Building, 370 Broadway Avenue, Star City, WV 26505.
Unincorporated Areas of Monongalia County | Monongalia County Floodplain Permit Office, 243 High Street, Courthouse Room 110, Morgantown, WV 26505.

[FR Doc. 2017-26803 Filed 12-12-17; 8:45 am]

BILLING CODE 9110-12-P